DEPARTMENT OF LABOR

Employment and Training Administration

[TA-W-81,393]

Trim Systems Operating Corp., a Subsidiary of Commercial Vehicle Group, Inc., Including On-Site Leased Workers From Staffmark, Including On-Site Leased Workers From Staffmark Whose Wages Are Paid Under CBS Personnel, Inc., Statesville, NC; Amended Certification Regarding Eligibility To Apply for Worker Adjustment Assistance

In accordance with Section 223 of the Trade Act of 1974, as amended (“Act”), 19 U.S.C. 2273, the Department of Labor issued a Certification of Eligibility to Apply for Worker Adjustment Assistance on April 6, 2012, applicable to workers and former workers of Trim Systems Operating Corp., a subsidiary of Commercial Vehicle Group, Inc., Statesville, North Carolina. The workers' firm is engaged in activities related to production of interior headliners, backwall and sidewall panels, flooring, curtains, and bunks for commercial vehicles. The worker group also includes on-site leased workers from Staffmark.

At the request of a company official, the Department reviewed the certification for workers of the subject firm. New information provided by company officials show that some workers of Staffmark had wages paid under the name CBS Personnel, Inc.

The intent of the Department's certification is to include all workers of the subject firm, including on-site leased worker, who were adversely affected by a shift in production to a foreign country.

The amended notice applicable to TA-W-81,393 is hereby issued as follows:

All workers of Trim Systems Operating Corp., a subsidiary of Commercial Vehicle Group, Inc., including on-site leased workers of Staffmark and including on-site leased workers of Staffmark whose wages are paid under CBS Personnel, Inc., Statesville, North Carolina, who became totally or partially separated from employment on or after March 1, 2011 through April 6, 2014, and all workers in the group threatened with total or partial separation from employment on April 6, 2012 through April 6, 2014, are eligible to apply for adjustment assistance under Chapter 2 of Title II of the Trade Act of 1974, as amended.

Signed in Washington, DC, this 26th day of October, 2012.
Del Min Amy Chen,
Certifying Officer, Office of Trade Adjustment Assistance.

[FR Doc. 2012-27413 Filed 11-8-12; 8:45 am]

BILLING CODE 4510-FN-P